DEPARTMENT OF COMMERCE

National Oceanic and Atmospheric Administration

50 CFR Part 660

RIN 0648-BO02

Magnuson-Stevens Act Provisions; Fisheries Off West Coast States; Pacific Coast Groundfish Fishery; Pacific Coast Groundfish Fishery Management Plan; Amendment 36; Limited Entry Fixed Gear Follow-On Actions

AGENCY: National Marine Fisheries Service (NMFS), National Oceanic and Atmospheric Administration (NOAA), Commerce.

ACTION: Notice of availability of proposed fishery management plan amendment; request for comments.

SUMMARY: NMFS announces that the Pacific Fishery Management Council (Council) submitted amendment 36 to the Pacific Coast Groundfish Fishery Management Plan (Groundfish FMP) to the Secretary of Commerce for review. If approved, amendment 36 would add flexibility to gear endorsements for limited entry fixed gear (LEFG) permit owners and remove the base permit designation of LEFG permits. Amendment 36 would also update language regarding LEFG and open access (OA) allocations related to amendment 6 to the Groundfish FMP. Amendment 36 is part of a larger proposed rulemaking action for the LEFG fishery, which includes two additional action items, the removal of the start and end times (i.e., hours of the day) for the open dates of the primary tier season and the development of a cost recovery program for the LEFG fishery. Those action items do not require a plan amendment and, therefore, are not discussed in detail in this Notice of Availability (NOA).

DATES: Comments on amendment 36 must be received on or before February 10, 2026.

ADDRESSES: You may submit comments on this document, identified by NOAA-NMFS-2025-0372, by the following method:

• Electronic Submission: Submit all electronic public comments via the Federal e-Rulemaking Portal. Go to https://www.regulations.gov and enter NOAA-NMFS-2025-0372 in the Search box. Click on the “Comment” icon, complete the required fields, and enter or attach your comments.

Instructions: Comments sent by any other method, to any other address or individual, or received after the end of the comment period, may not be considered by NMFS. All comments received are a part of the public record and will generally be posted for public viewing on https://www.regulations.gov without change. All personal identifying information (e.g., name, address, etc.), confidential business information, or otherwise sensitive information submitted voluntarily by the sender will be publicly accessible. NMFS will accept anonymous comments (enter “N/A” in the required fields if you wish to remain anonymous).

Electronic copies of proposed amendment 36 and the draft analysis (the Analysis) prepared for this action may be obtained from https://www.regulations.gov and the NMFS West Coast Region website at https://www.fisheries.noaa.gov/region/west-coast.

FOR FURTHER INFORMATION CONTACT: Megan Mackey, 206-526-6140, megan.mackey@noaa.gov.

SUPPLEMENTARY INFORMATION: NMFS manages the groundfish fisheries in the exclusive economic zone (EEZ) seaward of Washington, Oregon, and California under the Groundfish FMP. The Council prepared and NMFS implements the Groundfish FMP under the authority of the Magnuson-Stevens Fishery Conservation and Management Act (Magnuson-Stevens Act), 16 U.S.C. 1801 et seq., and implementing regulations at 50 CFR parts 600 and 660. The Magnuson-Stevens Act requires that each regional fishery management council submit any FMP or plan amendment it prepares to NMFS for review and approval, disapproval, or partial approval by the Secretary of Commerce. The Magnuson-Stevens Act also requires that NMFS, upon receiving an FMP or plan amendment, immediately publish a notice that the FMP or amendment is available for public review and comment. This notice announces that the proposed amendment 36 to the Groundfish FMP is available for public review and comment. NMFS will consider the public comments received during the comment period described above in determining whether to approve, partially approve, or disapprove amendment 36 to the Groundfish FMP.

Background

The history of the LEFG program (or LEFG fishery) in the Pacific Coast groundfish fishery dates back to the 1980s, and is detailed in Section 1.2 of the Analysis. In June 2022, the Council completed its second review of the LEFG fishery, with the adoption of the final report, 2022 LEFG Program Review,¹ including its assessment of the fishery's research and data needs and recommendations for program changes.

¹ https://www.pcouncil.org/documents/2022/06/limited-entry-fixed-gear-permit-stacking-program-review-june-2022.pdf/.

In June 2023, the Council considered a series of potential new management measures for the fishery and provided guidance on the development of a range of alternatives (ROA) for these measures. The Council also recommended that these items be split into two rulemaking packages: (1) fixed gear marking and entanglement risk reduction, and (2) LEFG follow-on actions. The Council took final action on the fixed gear marking and entanglement risk reduction measures in June 2024, and the associated regulations are anticipated to be in place in 2026.

In September 2023, the Council adopted a purpose and need and ROA for this proposed action for LEFG follow-on actions. At its March 2025 meeting, the Council adopted a preliminary preferred alternative (PPA) for this action. The Council then adopted a final preferred alternative (FPA) in June 2025.

The proposed LEFG follow-on action includes four action items. Only the first two actions require an FMP amendment to implement. For details on the remaining items, see the forthcoming proposed rule. The action items include:

1. Adding flexibility to the LEFG permit gear endorsements,

2. Removing the base permit designation of LEFG permits,

3. Removing the start and end times (i.e., hours of the day) for the open dates of the primary tier season, and

4. Developing a cost recovery program for the LEFG primary fishery.

With regard to the first action item on flexibility for gear endorsements, the Council noted that the most recent LEFG fishery review illustrated changing and unpredictable ocean and market conditions, and an aging fleet, indicating a need to increase flexibility for LEFG participants to use their quota in the most efficient way possible and to encourage new participation in the fishery. The Council determined that this need could be met by allowing LEFG permitted vessels to use different legal non-trawl gear(s), besides the gear currently endorsed on their permit, to harvest their LEFG quotas, and that allowing such gear flexibility could increase efficiency as well as opportunities for LEFG sablefish tier vessels and participants to more fully utilize annual groundfish allocations.

The Council considered a range of three action alternatives, with increasing levels of flexibility, for the proposed gear endorsement flexibility action item (see Section 2.1 of the Analysis). The first alternative would have allowed vessels registered to bottom longline-endorsed permits to also use slinky pots to harvest their quota. The second alternative would have broadened the flexibility by allowing an LEFG permit holder to use bottom longline or pot gear, including traditional and slinky pots. The third alternative, which is included in the FPA, would allow the most flexibility with respect to gear use, by creating a single LE non-trawl permit, under which vessels would be permitted to use any legal non-trawl groundfish gear to harvest their LE sablefish tier limits and groundfish trip limits, except for set nets or other entangling nets. This is currently allowed for vessels fishing in the directed OA sector and for vessels fishing individual fishing quota (IFQ) under the gear switching provisions of the Shorebased IFQ Program. Under the proposed amendment, all LEFG vessels would be allowed to use pot and bottom longline gears, and vertical hook-and-line or other legal non-trawl gear configurations, to harvest groundfish. This proposed action would also remove crossover provisions, currently applicable to the LE and OA sectors, in order to reduce regulatory and enforcement complexity.

The FPA for the gear endorsement flexibility action item includes a suboption that was added following PPA that would exclude the use of entangling nets from the gears permitted. This suboption was included after the Council raised concerns about the potential for the expanded use of set nets within the LEFG fishery under this action, as then proposed. Set nets are defined under the broader category of “entangling nets,” which also includes gillnets and trammel nets. Set nets are currently allowed in the OA groundfish fishery south of 38° North latitude (N lat.), but prohibited north of 38° N lat. (50 CFR 660.330(b)(2)(ii)). Under the FPA, without the suboption, LEFG vessels would have been able to use set nets. The suboption excludes the use of all entangling nets, including set nets, for the LE sector, under the new gear endorsement flexibility framework. There has been no record of directed groundfish vessels using set nets or other entangling nets to harvest groundfish off the U.S. West Coast (see Section 4.5.1 of the Analysis).

The second action item included in proposed amendment 36 concerns the base permit designation of LEFG permits. The base permit designation was used to determine that at least one permit in a sablefish permit stack had a length endorsement that was long enough for the vessel. It was highlighted during the 2022 LEFG program review, however, that the requirement to designate a base permit is duplicative and unnecessary, and that the vessel length requirement is already covered by a separate regulation within § 660.25(b)(3)(iii), subpart C. Therefore, the 2022 program review concluded that the base permit designation is not necessary to enforce the vessel length requirement, and the Council and NMFS found that the designation of a base permit for LEFG vessels creates an unnecessary administrative burden on fishery participants and NMFS staff (see Section 2.2 of the Analysis). This proposed action would therefore remove this requirement from the regulations.

Overall, the action items included in this proposed FMP amendment would provide increased flexibility to participants in the LEFG fishery, while reducing administrative burdens.

Proposed regulatory changes to establish the action items included in this proposed amendment will be presented in a forthcoming proposed rule. In terms of specific changes to the Groundfish FMP, amendment 36 would amend Chapters 6 and 11 of the Groundfish FMP to:

• Change all references from “limited entry fixed gear” or references to LEFG and pot/longline endorsements to “limited entry non-trawl” or LENT;

• Remove base permit language;

• Update language to reflect the Council has implemented a permit stacking program and link to appropriate regulations;

• Remove outdated amendment 6 language and references, including replacing references to LE and OA allocations with more general statements on how the Council will consider opportunities for each sector;

• Remove initial issuance criteria for LE permits and shift this information to Stock Assessment Fishery Evaluation (SAFE) or other documents; and

• Remove references to permit endorsements that are no longer applicable to the groundfish fishery (i.e., “B” endorsements and provisional “A” endorsements).

NMFS welcomes comments on the proposed FMP amendment through the end of the comment period. A proposed rule to implement amendment 36 has been submitted for Secretarial review and approval. NMFS expects to publish and request public review and comment on proposed regulations to implement amendment 36 in the near future. For public comments on the proposed rule to be considered in the approval or disapproval decision on amendment 36, those comments must be received by the end of the comment period on the proposed amendment. All comments received by the end of the comment period for the amendment, whether specifically directed to the amendment or the proposed rule, will be considered in the approval/disapproval decision.

Authority: 16 U.S.C. 1801 et seq.

Dated: December 11, 2025.
Kelly Denit,
Director, Office of Sustainable Fisheries, National Marine Fisheries Service.

[FR Doc. 2025-22948 Filed 12-15-25; 8:45 am]

BILLING CODE 3510-22-P